DEPARTMENT OF HOMELAND SECURITY

Coast Guard

46 CFR Parts 10 and 15

[USCG-2006-26202]

RIN 1625-AB10

Training and Service Requirements for Merchant Marine Officers

AGENCY: Coast Guard, DHS.

ACTION: Notice of proposed rulemaking.

SUMMARY: The Coast Guard proposes to make administrative changes to the requirements for merchant mariner training and service. The proposed regulation would remove the expiration date of the radar-observer endorsement from the merchant mariner's license, allow for an apprentice mate of towing vessels to reduce sea-service time for mate (pilot) of towing vessels by completing additional approved training, and would provide an alternate path to mate (pilot) of towing vessels for master of steam or motor vessels not more than 200 gross register tons. These changes are intended to eliminate confusion and clarify training and service requirements.

DATES: Comments and related material must reach the Docket Management Facility on or before December 17, 2007.

ADDRESSES: You may submit comments identified by Coast Guard docket number USCG-2006-26202 to the Docket Management Facility at the U.S. Department of Transportation. To avoid duplication, please use only one of the following methods:

(1) Web site: http://dms.dot.gov.

(2) Mail: Docket Management Facility (M-30), U.S. Department of Transportation, West Building Ground Floor, Room W12-140, 1200 New Jersey Avenue SE., Washington, DC 20590.

(3) Fax: 202-493-2251.

(4) Delivery: Room W12-140 on the Ground Floor of the West Building, 1200 New Jersey Avenue, SE., Washington, DC 20590. Deliveries may be made between 9 a.m. and 5 p.m., Monday through Friday, except Federal holidays. The telephone number is 202-366-9329.

(5) Federal eRulemaking Portal: http://www.regulations.gov.

FOR FURTHER INFORMATION CONTACT: If you have questions on this proposed rule, call Mr. Luke Harden, CG-3PSO, Coast Guard, telephone 202-372-1408. If you have questions on viewing or submitting material to the docket, call Ms. Renee V. Wright, Program Manager, Docket Operations, telephone 202-366-9826.

SUPPLEMENTARY INFORMATION:

Public Participation and Request for Comments

We encourage you to participate in this rulemaking by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this rulemaking (USCG-2006-26202), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing comments and documents: To view comments, as well as documents mentioned in this preamble as being available in the docket, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000, or you may visit http://dms.dot.gov. See 65 FR 19477.

Public Meeting

We do not currently plan to hold a public meeting. But you may submit a request for one to the Docket Management Facility at the address under ADDRESSES explaining why one would be beneficial. If we determine that one would aid this rulemaking, we will hold one at a time and place announced by a notice in the Federal Register.

Background and Purpose

The proposed revisions contained within this Notice of Proposed Rulemaking would (1) remove the expiration date of the radar-observer endorsement from the merchant mariner's license, (2) allow for an apprentice mate of towing vessels to reduce required minimum sea-service time for mate (pilot) of towing vessels by completing additional approved training, and (3) provide an alternate path to mate (pilot) of towing vessels for a master of steam or motor vessels not more than 200 gross register tons (GRT).

(1) Radar-observer endorsement: A petition for rulemaking was submitted to the Coast Guard on March 10, 2005 by an industry working group called the Mid-America Regional Examination Center Workgroup. That petition identified problems associated with placing the expiration date for the radar-observer endorsement on the deck licenses for mariners operating vessels equipped with radar. The expiration date for the radar-observer endorsement may be different from the expiration date of the license itself, causing confusion as to the validity of the license.

A license is valid for a five-year period from the date it is issued by the Coast Guard. A radar-observer endorsement is also valid for five years, but that period begins after the month of issuance of the certificate of training from an approved course. For original licenses, unless the radar training certificate was issued the month before the license is issued, the expiration date of the radar endorsement will be different than the expiration date of the license. For license renewals, existing 46 CFR 10.480(k) provides a one time opportunity for a mariner to synchronize the expiration date of the radar endorsement with that of the license; however, for various reasons, many mariners do not avail themselves of this opportunity. Even if they do, 46 CFR 10.480(k) does not account for subsequent renewals which might also bring the dates out of alignment. The end result is that currently, many licenses have conflicting radar endorsement dates printed on them.

When conflicting dates appear on the license, confusion may result. Moreover, licenses may need to be prematurely renewed or reissued with the new radar observer endorsement date when the mariner obtains a new radar training certificate. If the radar observer endorsement date is not printed on the license, this can be avoided.

In reviewing the industry recommendation, it was recognized that changing the requirement would simplify the process of issuing the license and ease the burden on the Coast Guard, industry, and schools providing the training. Mariners would still be required to keep their radar-observer training current, but an endorsement evidencing that training would not be printed on their licenses. While they would still be required to hold current radar training certificates to man vessels equipped with radar, as specified in 46 CFR 15.815, they would have up to 48 hours to produce a copy of their certificate upon request of the Coast Guard or other appropriate federal agency.

(2) Training programs: A petition submitted by Kirby Towing Co. dated January 4, 2006, and the Report of the Licensing Implementation Working Group of the Towing Safety Advisory Committee (TSAC) dated October 3, 2005, identified difficulties with the service requirements for certification as a mate (pilot) of towing vessels. According to Kirby Towing Co. and TSAC, the requirements for an apprentice mate to become a mate (pilot) of towing vessels unnecessarily restrict and dampen the use of comprehensive long-term training programs.

The proposed regulatory change would provide mariners and their employers the flexibility to use training programs, which the Coast Guard could accept as meeting a portion of the service requirements for mate (pilot) of towing vessels.

(3) Alternate progression: A petition for rulemaking dated February 11, 2005 was submitted by Delta Towing Co. seeking an alternate path to obtain a license as mate (pilot) of towing vessels. The petition recommended a path that could relieve a shortage of qualified towing vessel personnel, as well as provide alternatives to companies that operate diverse fleets of vessels (e.g. offshore supply vessels (OSVs) and towing vessels).

The proposed regulatory change would provide a path for a master of steam or motor vessels not more than 200 GRT to qualify as a mate (pilot) of towing vessels while still demonstrating the experience and training that the regulations require. The alternate path would be available for any holder of a master of steam or motor vessels license, of any route and of any tonnage less than 200 GRT, except for the limited masters licenses specified in §§ 10.429 and 10.456 of this part.

(4) Relationship to Other Rulemaking Projects: On May 22, 2006, the Coast Guard published a notice of proposed rulemaking (NPRM) and on January 25, 2007, a supplementary notice of proposed rulemaking (SNPRM) entitled “Consolidation of Merchant Mariner Qualification Credentials” that among other things proposes to create a single merchant mariner's credential (MMC). See 71 FR 29462 and 72 FR 3605. That proposed rulemaking and this proposed rulemaking propose to make changes to some of the same regulatory text. This project and any possible future projects that would affect this regulatory text will be closely coordinated with the MMC project to ensure that there are no conflicts.

Discussion of Proposed Rule

This rulemaking proposes to do the following:

(1) Radar-observer endorsement: The rulemaking proposes to remove the requirement in 46 CFR 10.480(g) for the month and year of the expiration of the radar-observer endorsement to appear on the license. This change will eliminate the apparent early expiration of licenses when the radar-observer endorsement expires. The proposed regulatory change would not affect the actual expiration date of either the license or the endorsement, and would not affect the requirement that the mariner maintain a current training certificate. This change would only eliminate the requirement that the Coast Guard actually print the expiration date of the endorsement on the license.

This proposed rule would also remove 46 CFR 10.480(k). That paragraph permits a one time extension of the radar observer-endorsement expiration date for up to two years in order to synchronize that date with the license expiration date. If the expiration date of the radar-observer endorsement is removed from the license, only one expiration date would appear on the license, and synchronization for the purpose of avoiding confusion about the license expiration date would be unnecessary.

Removing this paragraph would allow mariners greater flexibility in managing their training schedules, and reduce the work backlog at the Coast Guard's regional examination centers. Mariners would be able to submit their licenses for renewal closer to the actual five-year expiration of the license, rather than the shorter period that resulted from the need to renew when the radar-observer endorsement expired. A longer effective renewal requirement is expected to reduce paperwork for both mariners and the Coast Guard.

We also propose revising 46 CFR 15.815 to require readily available evidence that each person holds a valid radar-observer certificate. Although the expiration date would no longer appear on the license, inspection teams, incident investigators, employers, and any appropriate Federal agency representative must still be able to see proof that a mariner is currently qualified as a radar-observer. This change would facilitate enforcement of qualification requirements while providing mariners flexibility in the way they maintain evidence of training.

(2) Training programs: The service requirements in 46 CFR table 10.465-1 would be revised to permit mariners to count time successfully spent in Coast Guard-approved training programs toward the service requirements for mate (pilot) of towing vessels.

(3) Alternate progression: This proposed rule would add a new paragraph to 46 CFR 10.465 that would allow a master of steam or motor vessels of not more than 200 GRT to become a mate (pilot) of towing vessels under certain conditions. The paragraph would provide that the master of steam or motor vessels of not more than 200 GRT would need three years of service as master of steam or motor vessels less than 200 GRT, completion of a Towing Officer Assessment Record, completion of the towing vessel license (apprentice mate) exam, and 30 days of training and observation on a towing vessel on the route being sought.

In addition, the current regulatory language in 10.464(f) and 10.465(d) tries to describe a certain type of license, rather than using the actual endorsement title, which is unnecessarily confusing. This proposed rule would replace the descriptive terms “inspected, self-propelled vessels” with the actual endorsement title “master of steam or motor vessels”.

Regulatory Evaluation

This proposed rule is not a “significant regulatory action” under section 3(f) of Executive Order 12866, Regulatory Planning and Review, and does not require an assessment of potential costs and benefits under section 6(a)(3) of that Order. The Office of Management and Budget has not reviewed it under that Order. However, we have performed the following analysis of costs and benefits.

The proposed rule is divided into three elements: Radar endorsement, training programs, and alternate progression. This analysis will consider each of the three elements separately.

Radar Endorsement

The first element of the proposed rule would remove the expiration date of the radar-observer endorsement from the merchant mariner licenses. Currently 46 CFR 10.480(g) requires that the Coast Guard print both the endorsement and license expiration dates on the merchant mariner license.

Since the endorsement expiration date is tied to the date training is completed and the license is generally issued after the training is completed, the radar-observer-endorsement expiration date often precedes that of the license. The Coast Guard has determined that many people mistake the radar-observer-endorsement expiration date for that of the license itself. Removing the radar-observer endorsement expiration date would reduce confusion without affecting safety. Safety would remain unchanged because mariners and companies would still be required to keep training records current and readily available. The Coast Guard expects that the proposed rule would affect 7,660 radar-observer endorsements per year. This total includes both original and other than original endorsements.

Costs: Implementing this element of the proposed rule would impose no cost on the economy. This proposed rule contemplates no change in the fee paid for a merchant mariner license.

Benefits: The benefits of removing the expiration date would be modest, but noteworthy. The confusion caused by displaying the two expiration dates on the merchant mariner license could be denying many mariners the full five-year term of their licenses. The proposed rule would allow such mariners to enjoy the full five-year term of their mariner's license, giving them greater flexibility in deciding when to renew their licenses.

Training Programs

The second element of the proposed rule would allow applicants for a license as a mate (pilot) of towing vessels to apply time spent in Coast Guard-approved training courses or programs toward the minimum length of service requirement.

The Coast Guard's current regulations do not count time spent in a rigorous Coast Guard-approved towing training course toward the minimum service time requirements. Prospective pilots that elect to take such a course forego a chance to qualify for their licenses more quickly. The proposed changes would reduce this disincentive and therefore encourage more prospective towing vessel pilots to enroll in a course and more towing companies and training institutions to establish them. The Coast Guard believes that increasing the number of approved towing course graduates among towing vessel officers could increase overall towing safety.

Costs: This element of the rule unambiguously increases industry and mariner flexibility. It does not impose any cost on the economy because towing companies, mariners and training institutions would voluntarily exercise this flexibility only if they expected that it would make business sense for them to do so.

Benefits: The training program element of the proposed rule would reduce the opportunity cost for mariners of completing Coast Guard-approved training courses, leading to an increase in the number of prospective mates (pilots) of towing vessels enrolling in Coast Guard-approved towing courses. Such an increase would improve navigational safety.

Recent experience indicates that a substantial number of prospective towing pilots could take advantage of the increased flexibility. Currently the Kirby Marine Systems towing course is the only one approved by the Coast Guard. This course graduates about 10 to 20 students annually, compared to an annual average of 68 original towing licenses as mates (pilot) of towing vessels issued by the Coast Guard during 2003-05. Based upon discussions at the Towing Safety Advisory Committee, the Coast Guard believes that several towing companies would consider setting up towing courses if completion of the course could substitute for required service time toward a towing license.

The Coast Guard already allows applicants for certain engineering and deck licenses to substitute time spent in a Coast Guard-approved training course toward service time requirements, as described in 46 CFR 10.304, “Substitution of training for required service, use of training-record books, and use of towing officer assessment records.” The training programs element of the proposed rule would extend that flexibility to applicants for licenses as mate (pilot) of towing vessels.

Alternate Progression

The current rule describes two progressions to obtain a license as mate (pilot) of towing vessels. The traditional progression, described in 46 CFR 10.465(a) and 46 CFR table 10.465-1, requires an applicant for a license as mate (pilot) of towing vessels to complete at least 30 months of service, a Towing Officer Assessment Record (TOAR) or an approved course, and a 90-day period of training and observation on a towing vessel on the route for which the mariner seeks approval.

The second progression, in 46 CFR 10.465(d), allows individuals licensed as a mate or first-class pilot of inspected, self-propelled vessels greater than 200 GRT to obtain a license as a mate (pilot) of towing vessels on a particular route after completing a TOAR and a 30-day period of training and observation on a towing vessel on that route. The third element of the proposed rule would allow individuals licensed for three years or longer as a master of steam or motor vessels not more than 200 GRT, including individuals licensed as a master of steam or motor vessels of any route and of any tonnage less than 200 GRT, except for the limited masters' licenses specified in §§ 10.429 and 10.456 of this part, to obtain a license as a mate (pilot) of towing vessels on a particular route after completing a TOAR, the appropriate apprentice mate exam, and a 30-day period of training and observation on a towing vessel on that route.

Costs: The costs of this change to industry or mariners would be zero, as this change would unambiguously increase flexibility for mariners. Mariners would voluntarily take advantage of this provision only if they would gain a net benefit from doing so.

Benefits: The Coast Guard has determined that this element of the proposed rule would not reduce maritime safety. Candidates eligible for a license as a mate (pilot) of towing vessels under this proposed rule change would, in fact, have the same level of knowledge as those seeking a license as a master of towing vessels because they would be required to pass the same apprentice mate exam. In addition such a candidate would have already served approximately five years (sixty months) as a licensed officer before receiving the endorsement. This period is twice as long as the Coast Guard currently requires for candidates seeking a license as a mate (pilot) of towing under the first progression. The second progression already allows mariners holding a license as a mate or first-class pilot of inspected, self-propelled vessels greater than 200 GRT to operate towing vessels on a route if they complete a TOAR as well as 30 days of training and observation on towing vessels on the desired route. The alternate progression element of the proposed rule would extend similar flexibility to a sufficiently experienced master of steam or motor vessels not more than 200 GRT.

Small Entities

Under the Regulatory Flexibility Act (5 U.S.C. 601-602), the Coast Guard is required to assess whether the proposed rule would exert a significant economic impact upon a substantial number of small entities. The term “small entities” comprises small businesses, not-for-profit organizations that are independently owned and operated and are not dominant in their fields, and governmental jurisdictions with populations of less than 50,000.

As explained previously in the “Regulatory Evaluation” section, the Coast Guard does not expect that the proposed rule will exert a significant economic impact upon operating companies, some of which are small entities. Therefore the Coast Guard does not expect the proposed rule to exert a significant impact upon small businesses. The Coast Guard likewise expects no significant economic impact upon not-for-profit organizations or government jurisdictions, as the proposed rule does not change any requirements for either.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Mr. Luke Harden, CG-3PSO, Coast Guard, telephone 202-372-1408. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them.

We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g. specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 5100.1, which guide the Coast Guard in complying with the National Environmental Policy Act of 1969 (NEPA) (42 U.S.C. 4321-4370f), and have made a preliminary determination that there are no factors in this case that would limit the use of a categorical exclusion under section 2.B.2 of the Instruction. Therefore, we have determined that this rule should be categorically excluded under figure 2-1, paragraph (34)(c), of the Instruction from further environmental documentation. This proposed regulation concerns the training, qualifying, licensing and disciplining of maritime personnel. A preliminary “Environmental Analysis Check List” is available in the docket where indicated under the “Public Participation and Request for Comments” section of this preamble. Comments on this section will be considered before we make the final decision on whether this rule should be categorically excluded from further environmental review.

List of Subjects

46 CFR Part 10

Penalties, Reporting and recordkeeping requirements, Schools, Seamen.

46 CFR Part 15

Reporting and recordkeeping requirements, Seamen, Vessels.

For the reasons discussed in the preamble, the Coast Guard proposes to amend 46 CFR parts 10 and 15 as follows:

PART 10—LICENSING OF MARITIME PERSONNEL

1. The authority citation for part 10 continues to read as follows:

Authority: 14 U.S.C. 633; 31 U.S.C. 9701; 46 U.S.C. 2101, 2103, and 2110; 46 U.S.C. chapter 71; 46 U.S.C. 7502, 7505, 7701, and 8906; Department of Homeland Security Delegation 0170.1. Section 10.107 is also issued under the authority of 44 U.S.C. 3507.

2. Amend § 10.304 by adding new paragraph (j) to read as follows:

§ 10.304 Substitution of training for required service, use of training record books, and use of towing officer assessment records.

* * * * *

(j) Substitution of training in lieu of required service for a license as mate (pilot) of towing vessels is governed by § 10.465 and table 10.465-1 of this part.

3. In § 10.464—

a. Amend paragraph (b) by adding the following sentence to the end of the paragraph; and

b. In paragraph (f), introductory text, remove the words “inspected, self-propelled” and add, in their place, the words “steam or motor”:

§ 10.464 Requirements for licenses as master of towing vessels.

* * * * *

(b) * * * Time of service requirements as an apprentice mate (steersman) of towing vessels may be reduced by an amount equal to the time specified in the approval letter for the completed Coast Guard-approved training programs.

* * * * *

4. In § 10.465—

a. Amend paragraph (a) by adding the following sentence to the end of the paragraph;

b. Revise table 10.465-1 to read as follows;

c. In paragraph (d), introductory text, remove the words “inspected, self-propelled” and add, in their place, the words “steam or motor”; and

d. Redesignate existing paragraphs (e) and (f) as paragraphs (f) and (g) and add new paragraph (e) to read as follows:

§ 10.465 Requirements for licenses as mate (pilot) of towing vessels.

(a) * * * Time of service requirements as an apprentice mate (steersman) of towing vessels may be reduced by an amount equal to the time specified in the approval letter for the completed Coast Guard-approved training programs.

Table 10.465-1.—Requirements for License as Mate (Pilot ¹) of Towing Vessels
Route endorsed | Total service ² | TOS ³ on T/V as apprentice mate (steersman) ⁵ | TOS ³ on particular route | TOAR ⁴ or an approved course | 30 Days of observation and training while holding master (limited) and pass a limited examination | Subordinate route authorized
1 | 2 | 3 | 4 | 5 | 6 | 7
(1) Oceans (O) | 30 | 12 of 30 | 3 of 12 | Yes | Yes | NC, GL-I
(2) Near-coastal (NC) | 30 | 12 of 30 | 3 of 12 | Yes | Yes | GL-I
(3) Great Lakes-Inland (GL-I) | 30 | 12 of 30 | 3 of 12 | Yes | Yes
(5) Western Rivers (WR) | 30 | 12 of 30 | 3 of 12 | Yes | No (90-days service required)
¹ For all inland routes, as well as Western Rivers, the license as pilot of towing vessels is equivalent to that as mate of towing vessels. All qualifications and equivalencies are the same.
² Service is in months unless otherwise indicated.
³ TOS is time of service.
⁴ TOAR is Towing Officers' Assessment Record.
⁵ Time of service requirements as an apprentice mate (steersman) of towing vessels may be reduced by an amount equal to the time spent by a mariner to complete a training program approved by the Coast Guard if the authority for the reduction is provided in the letter from the Coast Guard approving the program.

* * * * *

(e) If you hold any license as a master of steam or motor vessels of any tonnage less than 200 GRT, except for the limited masters' licenses specified in 46 CFR 10.429 and 10.456, then you may obtain an endorsement as mate (pilot) of towing vessels by meeting the following requirements:

(1) Providing proof of 36 months of service operating under the authority of your existing license;

(2) Successfully completing the appropriate TOAR;

(3) Successfully completing the appropriate apprentice mate exam; and

(4) Having 30 days of training and observation on towing vessels for the route being assessed, except as noted in paragraph (b) of this section.

* * * * *

§ 10.480 [Amended]

5. Amend § 10.480 as follows:

a. In paragraph (f), remove “Except as provided by paragraph (k) of this section”; and

b. Remove paragraphs (g) and (k), and redesignate paragraphs (h), (i), and (j) as (g), (h), and (i), respectively.

PART 15—MANNING REQUIREMENTS

6. The authority citation for part 15 continues to read as follows:

Authority: 46 U.S.C. 2101, 2103, 3306, 3703, 8101, 8102, 8104, 8105, 8301, 8304, 8502, 8503, 8701, 8702, 8901, 8902, 8903, 8904, 8905(b), 8906 and 9102; and Department of Homeland Security Delegation No. 0170.1.

7. In § 15.815—

a. In paragraphs (a), (b), and (c), remove the words “a valid endorsement” and add, in their place, the words “an endorsement”; and

b. Add new paragraphs (d) and (e) to read as follows:

§ 15.815 Radar observers.

* * * * *

(d) Each person who is required to hold a radar endorsement must have their certificate of training readily available to demonstrate that the endorsement is still valid.

(e) For the purposes of this section, “readily available” means that the mariner must carry either the certificate of training or a notarized copy onboard. Alternatively, the mariner must provide a copy of the certificate of training or notarized copy to the requesting entity within 48 hours. The requested material may be delivered either physically, electronically, or by facsimile.

Dated: September 7, 2007.
J.G. Lantz,
Acting Assistant Commandant for Prevention.

[FR Doc. E7-18191 Filed 9-14-07; 8:45 am]

BILLING CODE 4910-15-P